DEPARTMENT OF STATE

[Public Notice 7231]

U.S. National Commission for UNESCO Notice of Meeting and Closed Meeting

The U.S. National Commission for UNESCO will hold a meeting on Wednesday, December 1, 2010, from 10 a.m. until 12:45 p.m. Eastern Time at the U.S. Department of State, with the option of participation by telephone conference. The open session will have a series of subject-specific reports, during which the Commission will accept brief oral comments or questions from the public or media. The open session is expected to be two hours and forty-five minutes in duration. The public comment period will be limited to approximately 15 minutes in total, with two minutes allowed per speaker.

The second portion of the meeting will be closed to the public to allow the Commission to discuss applications for the UNESCO Associated Schools Network Program and the UNESCO Club Network. The closed session will begin at 12:45 p.m. This portion of the call will be closed to the public pursuant to Section 10(d) of the Federal Advisory Committee Act and 5 U.S.C. 552b(c)(6) because it is likely to involve discussion of information of a personal and financial nature regarding the relative merits of individual applicants where disclosure would constitute a clearly unwarranted invasion of privacy.

For more information or to arrange to participate in the open portion of the the meeting, individuals must make arrangements with the Executive Secretariat of the National Commission by November 29, 2010.

The National Commission may be contacted via e-mail at DCUNESCO@state.gov, or via phone at (202) 663-0026. Its Web site can be accessed at: http://www.state.gov/p/io/unesco/.

Dated: November 9, 2010.
Elizabeth Kanick,
Executive Director, U.S. National Commission for UNESCO, Department of State.

[FR Doc. 2010-29128 Filed 11-17-10; 8:45 am]

BILLING CODE 4710-19-P